DEPARTMENT OF AGRICULTURE

Forest Service

Little Slate Project; Nez Perce National Forest, Idaho County, ID

AGENCY: Forest Service, USDA.

ACTION: Notice of intent to prepare an environmental impact statement.

SUMMARY: The USDA, Forest Service, Nez Perce National Forest will prepare an environmental impact statement (EIS) to document analysis and disclose the environmental impacts of implementing watershed improvement activities and timber harvest and within the Little Slate project area. Actions include: Construction of temporary roads, road reconstruction, road decommissioning of existing roads that are no longer needed, trail relocation and watershed, riparian and soil restoration. Individuals interested in actions of this nature are encouraged to submit comments and become involved in the planning process.

DATES: Comments concerning the scope of the analysis should be received at the address below on or before July 20, 2007. The draft environmental impact statement is expected to be released for public comment in November 2007 and the final environmental impact statement is expected to be completed in May 2008.

ADDRESSES: Send written comments to Jane Cottrell, Forest Supervisor, 1005 Highway 13, Grangeville, ID 83530, or via facsimile to 208-983-4099. Comments may be sent via e-mail to comments-northern-nezperce-salmon-river@fs.fed.us. The subject line must contain the name “Little Slate Project”, for which you are submitting comments or address with ATTN: Little Slate on written correspondence.

Individuals who use telecommunication devices for the deaf (TDD) may call the Federal Information Relay Service (FIRS) at 1-800-877-8339 between 8 a.m. and 8 p.m., Eastern Time, Monday through Friday.

All comments, including names and addresses, when provided, are placed in the record and are available for public inspection and copying.

FOR FURTHER INFORMATION CONTACT: Jennie Fischer, Team Leader, Nez Perce National Forest, 1005 Highway 13, Grangeville, ID 83530, or phone (208) 983-4048.

SUPPLEMENTARY INFORMATION: The Little Slate project area is located on the Nez Perce National Forest in northern Idaho within Idaho County. The project area lies approximately 14 air miles northeast of Riggins, Idaho and 25 air miles south of Grangeville, Idaho. The project area encompasses approximately 35,000 acres and includes Upper and Middle Little Slate Creek, Boulder Creek, Van Buren, Turnbull, and Rubie Creek subwatersheds, which are tributaries to Slate Creek, which flows directly into the Lower Salmon River. The project area also includes small portions of John Day, Allison Creek and White Sand Creek.

Purpose and Need for Action

There is a need to improve watershed conditions, manage and restore forest vegetation, and reduce hazardous fuels. Components of this project include: Timber harvest, fuels reduction, watershed and soil restoration, mine reclamation and access management (roads and trail).

The actions proposed for implementation would treat vegetation, including the use of timber harvest, through the following activities:

Forest vegetation would be treated using a combination of methods on approximately 4,104 acres. This combination would result in some regeneration (clearcut) harvest (2,165 acres), shelterwood harvest (649 acres), and commercial thinning (1290 acres). Ground based logging systems would be used and post-harvest activity fuels treated. Approximately 17.4 miles of temporary road would be constructed to access the timber harvest areas described above, and decommissioned following activities. Approximately 4.9 miles of road reconstruction would occur on the #643 road for hauling. Approximately 72 miles of existing roads would be reconditioned (deferred maintenance activities) and for watershed improvement prior to use for the activities. A combination of slashing and burning on approximately 860 acres would be used to enhance Whitebark pine regeneration in four high elevation areas. Broadcast burning 1,329 acres following harvest activities and allow backing of fire into riparian area within lodgepole pine areas. Re-develop a Forest Service rock source would provide material for this project and others across the forest (1 acre).

As part of this project, activities would be implemented to meet Forest Plan requirements for upward trend in fish habitat and water quality. The amount of watershed restoration work required to produce an upward trend has not yet been determined. These following activities would maintain or improve watershed conditions in the subwatersheds in the project area.

Reducing water quality impacts on existing roads, including those planned for use under this project through road reconditioning. Reduce impacts from Trails, #88, #303, #308 through relocation (2.85 miles), new construction (2.9 miles) and decommissioned (3.2 miles). Reduce impacts and maintain Trail #133. Decommission approximately 47 miles of existing road using techniques ranging from abandonment, or re-contouring. Restore soil productivity and watershed function on approximately 30 acres of previously impacted areas. Improve channel morphology, floodplain function and instream habitat through riparian restoration on approximately 2.5 miles of Little Slate Creek. Planting riparian areas with native grasses, forbs and woody species where needed to promote bank stability and/or streamside shade. Approximately 20-50 acres would be treated to stabilize and reduce gully and surface erosion a result of historic grazing on sensitive soils near Nut Basin point. Channel stabilization (5 sites) where channel headcutting is occurring, in riparian areas with historic mining activity. Mine rehabilitation to reduce erosion and water quality impacts at 10 inactive placer sites. Improving upstream passage for fish and other aquatic species at 6 road crossing sites identified as being full or partial barriers. Improving or removing road crossing (15 stream crossings) that may be undersized to accommodate a 100-yr streamflows, including associated bedload and debris; and prevent diversion of streamflow out of the channel and down the road in the event of blockage.

Forest Plan Amendment

It is likely that a Forest Plan amendment would be needed to allow implementation of timber harvest and fuel reduction activities in some areas with past ground disturbance. This amendment would also be applied forest-wide.

Past activities have caused detrimental soil disturbance in some areas proposed for timber harvest. The proposed amendment would state, “Where detrimental soil conditions from past activities affect 15 percent or less of the activity area, a cumulative minimum of 85 percent of the activity area shall not be detrimentally compacted, displaced, or puddled upon completion of activities” and “Where detrimental soil conditions from past activities affect more than 15 percent of the activity area, the cumulative detrimental soil disturbance from project implementation and past activities shall not exceed the conditions prior to the planned activity and shall provide a net improvement in soil quality.” This would provide consistency with Regional soil quality guidelines.

Scoping Process

This Notice of Intent initiates the scoping process in compliance with the National Environmental Policy Act and its implementing regulations (40 CFR part 1500). As part of the scoping period, the Forest Service solicits public comment on the nature and scope of the environmental, social, and economic issues related to the rulemaking that should be analyzed in depth in the Draft Environmental Impact Statement. A scoping letter outlining these actions described here is being mailed to over 400 interested individuals and organizations. In addition, the Salmon River Ranger District will post notices within the project area this summer along roads and trails solicit comments on the proposal. The Draft Environmental Impact Statement will be mailed to all those who responded during the scoping period.

Preliminary Issues

The Interdisciplinary Team has identified preliminary issues associated with potential effects on the proposed activities: On threatened and endangered wildlife species and habitat; on old growth; on soil productivity; on threatened, endangered and sensitive fish and fish habitat; on the consistency with the anticipated total Maximum Daily Load (TMDL) for the 303(d) listed streams in the Lower Salmon River, on Inventoried Roadless Area or unroaded areas; on Riparian Habitat Conservation Area; and on changes to public access on roads and trails, including recreational and mining claim access.

Possible Alternatives

The NEPA implementing regulations require that an Environmental Impact Statement evaluate alternatives. possible alternatives to be considered in the Draft Environmental Impact Statement include: No activities in Inventory Roadless Areas and decommissioning of the end of #2002 Road from the junction of the #2002C Road.

Additional alternatives may arise from public comments, analysis or new information.

Decision To Be Made

The decisions to be made in response to this analysis include (1) Are vegetation management and restoration activities needed and if so where, what activities, when and how would they be implemented? (2) What transportation systems (road and trail) are necessary in the analysis area and how will they be managed? (3) Are the fish habitat and water quality improvement activities for Forest Plan upward trend requirements needed and if so where, when and how would they be implemented? (4) What mitigation is needed to assure forest management activities are consistent with the Nez Perce Forest Plan and environmental law? (5) is the amendment, for soils, to the Nez Perce Forest Plan necessary to implement the proposed actions and other future activities? (6) What implementation and effectives monitoring is needed?

Estimate Dates

The responsible official for this project is the Nez Perce Forest Supervisor. Comments to this notice should be sent to the address and contacts identified above and should be submitted within 30 days of publication of this notice in the Federal Register. A Draft Environmental Impact Statement (EIS) is expected to be available in November 2007 and a Final EIS in May 2008. Should an action alternative be selected, implementation would be initiated in the spring of 2009. Implementation of any or all of the actions authorized with this decision may occur utilizing the stewardship contracting authorities granted in Section 347 of the 1999 Interior Appropriations Bill.

Comments Requested

The comment period on the draft environmental impact statement will be 45 days from the date the Environmental Protection Agency publishes the notice of availability in the Federal Register.

Reviewers should provide their comments during the comment period. Timely comments will enable the agency to analyze and respond to them at one time and to use them in the preparation of the Environmental Impact Statement, thus avoiding undue delay in the decision-making process. Furthermore, the more specific and substantive the comments, the better for reviewers and the agency alike. Reviewers have an obligation to “structure their participation in the National Environmental Policy Act process so that it is meaningful and alerts the agency to the reviewer's position and contentions.” Vermont Yankee Nuclear Power Corp. v. NRDC, 435 U.S. 519, 552 (1978). Dept. of Transportation v. Public Citizen, 541 U.S. 752, 764 (2004). Environmental concerns that could have been raised at the draft stage may therefore be forfeited if not raised until after completion of the Final Environmental Impact Statement. Comments on the draft should be specific and should address the adequacy of the draft and the merits of the alternatives discussed (40 CFR 1503.3).

Dated: June 22, 2007.
Jane L. Cottrell,
Forest Supervisor, Nez Perce National Forest.

[FR Doc. 07-3158 Filed 6-27-07; 8:45 am]

BILLING CODE 3410-11-M